DEPARTMENT OF HEALTH AND HUMAN SERVICES

National Institutes of Health

Center for Scientific Review; Amended Notice of Meeting

Notice is hereby given of a change in the meeting of the Cellular Aspects of Diabetes and Obesity Study Section, October 17, 2013, 08:00 a.m. to October 17, 2013, 05:00 p.m., Hilton Garden Inn Bethesda, 7301 Waverly Street, Bethesda, MD 20814 which was published in the Federal Register on September 23, 2013, 78 FR 58323-58324.

The meeting will be held at the National Institutes of Health, 6701 Rockledge Drive, Bethesda, MD 20892 on December 13, 2013. The meeting will start at 9:00 a.m. and end at 5:00 p.m. The meeting is closed to the public.

Dated: October 25, 2013.
Anna Snouffer,
Deputy Director, Office of Federal Advisory Committee Policy.

[FR Doc. 2013-25763 Filed 10-29-13; 8:45 am]

BILLING CODE 4140-01-P